ENVIRONMENTAL PROTECTION AGENCY

[EPA-HQ-OW-2018-0618; FRL-9983-27-OW]

Public Meeting on EPA's Study of Oil and Gas Extraction Wastewater Management

AGENCY: Environmental Protection Agency (EPA).

ACTION: Notice of public meeting.

SUMMARY: The Environmental Protection Agency (EPA) will host a public meeting to obtain input on its Study of Oil and Gas Extraction Wastewater Management. In May 2018, EPA initiated a study to evaluate approaches to managing both conventional and unconventional oil and gas extraction wastewaters generated at onshore facilities. EPA's study will address questions such as how existing federal approaches to produced water management under the Clean Water Act can interact more effectively with state and tribal regulations, what requirements or policy updates are needed, and whether support exists for potential federal regulations that may allow for broader discharge of treated produced water to surface waters. A key component of the study is to engage with stakeholders to solicit information from their individual perspectives on topics surrounding produced water management. This spring and summer, EPA met with various stakeholders across the country. This public meeting is the next step in EPA's outreach. During this meeting, EPA will report on what it has learned to date and provide stakeholders the opportunity to provide additional input. For more information on the meeting and the study, see the SUPPLEMENTARY INFORMATION section of this notice.

DATES: The public meeting will be held on October 9, 2018, from 10:30 a.m. to 4 p.m., Eastern Time. The meeting will begin with EPA's status report on the study. This will be followed by a panel discussion on the work happening across the federal family to coordinate federal resources and reduce duplication on cross-cutting water issues. The public input session will begin at 12:30 p.m.

ADDRESSES: The meeting will be held at William J. Clinton Building—East, Room 1153, 1201 Constitution Avenue NW, Washington, DC.

FOR FURTHER INFORMATION CONTACT: Jan Matuszko, Engineering and Analysis Division, Office of Water, email matuszko.jan@epa.gov.

SUPPLEMENTARY INFORMATION: For more information about the study, see EPA's website at https://www.epa.gov/eg/study-oil-and-gas-extraction-wastewater-management.

Participating in the meeting: The public is invited to speak during the October 9 public meeting. Those wishing to attend and/or speak can register at oil-and-gas-study@epa.gov. Please provide your name, organization, email address and indicate whether you plan to speak. Each speaker will be limited to three minutes. Registration is recommended but not required for this meeting. For security reasons, we request that you bring photo identification with you to the meeting. Seating will be provided on a first-come, first-served basis. Please note that parking is very limited in downtown Washington, and use of public transit is recommended. The EPA Headquarters complex is located near the Federal Triangle Metro station. Upon exiting the Metro station, walk east to 12th Street. On 12th Street, walk south to Constitution Avenue. At the corner, turn right onto Constitution Avenue and proceed to the EPA East Building entrance.

If you are unable to attend, you can submit a written statement at: http://www.regulations.gov: Enter Docket ID No. EPA-HQ-OW-2018-0618. Follow the online instructions for submitting a written statement. Once submitted, written statements cannot be edited or withdrawn. EPA may publish any written statement received to its public docket.

Do not submit electronically any information you consider to be Confidential Business Information (CBI). For additional submission methods, information about CBI, and general guidance on effective written submissions, please visit https://www.epa.gov/dockets/commenting-epa-dockets.

Dated: August 27, 2018.
Deborah G. Nagle,
Acting Director, Office of Science and Technology, Office of Water.

[FR Doc. 2018-19151 Filed 8-31-18; 8:45 am]

BILLING CODE 6560-50-P